DEPARTMENT OF THE INTERIOR

Fish and Wildlife Service

Notice of Intent To Prepare a Comprehensive Conservation Plan and Environmental Assessment for the Central Arkansas National Wildlife Refuge Complex

AGENCY: Fish and Wildlife Service, Interior.

ACTION: Notice of intent.

SUMMARY: This notice advises the public that the Fish and Wildlife Service, Southeast Region, intends to gather information necessary to prepare a comprehensive conservation plan and environmental assessment pursuant to the National Environmental Policy Act of 1969 and its implementing regulations. This plan and environmental assessment will cover Bald Knob National Wildlife Refuge, Big Lake National Wildlife Refuge, Cache River National Wildlife Refuge, and Wapanocca National Wildlife Refuge, the refuges that make up the Central Arkansas National Wildlife Refuge Complex. The refuges are in Crittendon, Jackson, Mississippi, Monroe, Prairie, White, and Woodruff Counties, Arkansas. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: Please provide written comments on the scope of issues to include in the environmental document by March 5, 2007.

ADDRESSES: Address comments, questions, and requests for further information to: Judy McClendon, Natural Resource Planner, Central Arkansas National Wildlife Refuge Complex, 26320 Highway 33 South, Augusta, Arkansas 72006; Telephone: 870/347-2074. Comments may be faxed to the complex at: 870/347-2908, or e-mailed to Judy_McClendon@fws.gov.

SUPPLEMENTARY INFORMATION: Public scoping meetings are planned for early 2007 and will be announced in the local media in advance of the meetings. Announcements will inform people of opportunities for written input throughout the planning process. All comments received become part of the official public record. Requests for such comments will be handled in accordance with the Freedom of Information Act and other Service and Departmental policies and procedures.

By Federal law, all lands within the National Wildlife Refuge System will be managed in accordance with an approved comprehensive conservation plan. Plans guide a refuge's management decisions and identify long-term goals, objectives, and strategies for achieving the purposes for which the refuge was established. During the planning process many elements will be considered, including wildlife and habitat management, public use opportunities, and cultural resource protection. Public input during the planning process is essential. The plan for the Central Arkansas National Wildlife Refuge Complex will describe desired conditions for refuges within the complex and the long-term goals, objectives, and strategies for achieving those conditions.

The four national wildlife refuges that comprise the Central Arkansas National Wildlife Refuge Complex were all established primarily to provide habitat for migrating waterfowl and other birds, for use as inviolate sanctuary or for any other management purposes for migratory birds, for the conservation of the Nation's wetlands, to protect and restore bottomland hardwood resources, to protect endangered species, and to provide the public with compatible and appropriate wildlife-dependent recreational opportunities. The refuges are located in the bottomland hardwood habitat of the Mississippi River Alluvial Plain and contain large tracts of bottomland hardwood forest, unique wetlands, and habitat for wintering migratory waterfowl and other wildlife. In early 2005, the ivory-billed woodpecker, long thought to be extinct, was rediscovered on the Cache River National Wildlife Refuge.

Preliminary Issues, Concerns, and Opportunities

The following preliminary issues, concerns, and opportunities have been identified and will be addressed in the comprehensive conservation plan. Additional issues will be identified during public scoping.

Habitat Management and Restoration: What actions shall the Service take to sustain and restore priority species and habitats over the next 15 years?

Endangered Species: How will the Cache River National Wildlife Refuge manage its lands with the rediscovery of the ivory-billed woodpecker?

Public Use and Access: What type and level of appropriate and wildlife-dependent compatible recreation opportunities should be provided?

Invasive Species Control: How do invasive species affect functioning native systems, and what actions should be taken to reduce the incidence and spread of invasive species?

Authority: This notice is published under the authority of the National Wildlife Refuge System Improvement Act of 1997, Public Law 105-57.

November 20, 2006.
Cynthia K. Dohner,
Acting Regional Director.

[FR Doc. E6-22463 Filed 12-29-06; 8:45 am]

BILLING CODE 4310-55-P